DEPARTMENT OF ENERGY

Federal Energy Regulatory Commission

Combined Notice of Filings #1

Take notice that the Commission received the following exempt wholesale generator filings:

Docket Numbers: EG18-2-000.

Applicants: NTE Carolinas II, LLC.

Description: Self-Certification of Exempt Wholesale Generator Status of NTE Carolinas II, LLC.

Filed Date: 10/4/17.

Accession Number: 20171004-5155.

Comments Due: 5 p.m. ET 10/25/17.

Docket Numbers: EG18-3-000.

Applicants: Bladen Solar, LLC.

Description: Self-Certification of Exempt Wholesale Generator Status of Bladen Solar, LLC.

Filed Date: 10/5/17.

Accession Number: 20171005-5005.

Comments Due: 5 p.m. ET 10/26/17.

Docket Numbers: EG18-4-000.

Applicants: Bullock Solar, LLC.

Description: Self-Certification of Exempt Wholesale Generator Status of Bullock Solar, LLC.

Filed Date: 10/5/17.

Accession Number: 20171005-5006.

Comments Due: 5 p.m. ET 10/26/17.

Take notice that the Commission received the following electric rate filings:

Docket Numbers: ER18-26-000.

Applicants: Southwestern Electric Power Company.

Description: § 205(d) Rate Filing: SWEPCO-NTEC Hallsville S. Tap to Gum Springs DPA to be effective 9/11/2017.

Filed Date: 10/4/17.

Accession Number: 20171004-5139.

Comments Due: 5 p.m. ET 10/25/17.

Docket Numbers: ER18-27-000.

Applicants: Thunder Ranch Wind Project, LLC.

Description: Baseline eTariff Filing: Thunder Ranch Wind Project, LLC MBR Tariff to be effective 11/1/2017.

Filed Date: 10/4/17.

Accession Number: 20171004-5154.

Comments Due: 5 p.m. ET 10/25/17.

Docket Numbers: ER18-28-000.

Applicants: Duke Energy Florida, LLC.

Description: § 205(d) Rate Filing: DEF Bartow NITSA Update to be effective 1/1/2018.

Filed Date: 10/5/17.

Accession Number: 20171005-5003.

Comments Due: 5 p.m. ET 10/26/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2017.
Kimberly D. Bose,
Secretary.

[FR Doc. 2017-22007 Filed 10-11-17; 8:45 am]

BILLING CODE 6717-01-P